DEPARTMENT OF ENERGY

Federal Energy Regulatory Commission

[Docket No. RP99-485-003]

Enbridge Pipelines (KPC); Notice of Compliance Filing

April 4, 2003.

Take notice that on April 1, 2003, Enbridge Pipelines (KPC) (KPC) tendered for filing revised tariff sheets which are to be included in its FERC Gas Tariff, First Revised Volume No. 1, as shown on Appendix A to the filing, to be made effective on either November 9, 2002, or December 1, 2002.

KPC states that the purpose of the filing is to comply with the Commission's Order issued on March 18, 2003, wherein the Commission accepted KPC's tariff sheets filed on October 10, 2002, subject to refiling those sheets to reflect the allocation of cost associated with the Transok lease payments, exclusively to Zone 1.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: April 14, 2003.

Magalie R. Salas,
Secretary.

[FR Doc. 03-8986 Filed 4-10-03; 8:45 am]

BILLING CODE 6717-01-P